UNITED STATES INSTITUTE OF PEACE

Announcement of the Priority Grant Competition for Immediate Release

AGENCY: United States Institute of Peace.

ACTION: Notice.

SUMMARY: The Agency announces its ongoing Priority Grant Competition. The Priority Grant Competition focuses on countries and topics as they relate to USIP's mandate. The Priority Grant Competition is restricted to projects that fit the themes identified for each priority area.

Starting October 1, the Priority Grant Competition will focus on five countries and one topic.

• Afghanistan.

• Iran.

• Iraq.

• Pakistan.

• Sudan.

• Communication for Peacebuilding.

The specific themes for each priority area may be found at our Web site at: http://www.usip.org/grants-fellowships/priority-grant-competition.

Deadline: The Priority Grant Competition applications are accepted throughout the year and awards are announced throughout the year. Please visit our Web site at: http://www.usip.org/grants-fellowships/priority-grant-competition for specific information on the competition as well as instructions about how to apply.

ADDRESSES: If you are unable to access our Web site, you may submit an inquiry to: United States Institute of Peace, Grant Program, Priority Grant Competition, 1200 17th Street, NW., Suite 200, Washington, DC 20036-3011. (202) 429-3842 (phone) (202) 833-1018 (fax) (202) 457-1719 (TTY) E-mail: grants@usip.org.

FOR FURTHER INFORMATION CONTACT: The Grant Program, Phone (202) 429-3842. E-mail: grants@usip.org.

Dated: May 11, 2010.
Michael Graham,
Vice President for Management.

[FR Doc. 2010-11575 Filed 5-14-10; 8:45 am]

BILLING CODE 6820-AR-M